DEPARTMENT OF THE INTERIOR

Bureau of Land Management

[WO-310-1310-PB-24 1A]

Extension of Approved Information Collection, OMB Approval Number 1004-0185

AGENCY: Bureau of Land Management, Interior.

ACTION: Notice and request for comments.

SUMMARY: In accordance with the Paperwork Reduction Act of 1995, the Bureau of Land Management (BLM) is requesting the Office of Management and Budget (OMB) to extend an existing approval to collect information from oil and gas lessees who have the obligation to ensure their oil and gas leases are protected from drainage. BLM uses the information to determine whether lessees and operating rights owners have complied with this obligation. Drainage of oil and gas resources results in lower royalties to the Federal Government.

DATES: You must submit your comments to BLM at the address below on or before October 22, 2001. BLM will not necessarily consider any comments received after the above date.

ADDRESSES: You may mail comments to: Regulatory Affairs Group (630), Bureau of Land Management, Mailstop 401LS, 1849 C Street, NW, Washington, DC 20240.

You may send comments via Internet to: WOComment@blm.gov. Please include “ATTN: 1004-0185” and your name and return address in your Internet message.

You may deliver comments to the Bureau of Land Management, Administrative Record, Room 401, 1620 L Street, NW, Washington, DC.

Comments will be available for public review at the L Street address during regular business hours (7:45 a.m. to 4:15 p.m.) Monday through Friday.

FOR FURTHER INFORMATION CONTACT: You may contact Barbara Gamble on (202) 452-0338 (Commercial or FTS). Persons who use a telecommunication device for the deaf (TDD) may call the Federal Information Relay Service (FIRS) on 1-800-877-8330, 24 hours a day, seven days a week, to contact Ms. Gamble.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

The Mineral Leasing Act of 1920 (MLA), 30 U.S.C. 181 et seq., gives the Secretary of the Interior responsibility to ensure protection of Federal oil and gas leases from drainage. Whenever drainage of Federal oil and gas resources is occurring, the lessee is required to drill all wells necessary to prevent losses of revenues due to such drainage, or enter into a communitization or unitization agreement, or to pay compensatory royalties for periods in which drainage has occurred or is occurring.

The regulations under 43 CFR 3100 specify that oil and gas lessees have the obligation to ensure protection of their leases from drainage. The lessees and operating rights owners must monitor drilling activities of offending wells that may result in drainage situations. BLM has the responsibility to notify lessees if it has reason to believe there is drainage of Federal oil and gas resources. If BLM determines that drainage may be occurring, it will notify the lessees of the affected leases to take protective action or to provide BLM with evidence that drainage is not occurring or that a protective well would not be economic to drill, produce, and operate. BLM uses this information to determine if lessees and operating rights owners have complied with this obligation. Drainage of oil and gas resources results in lower royalties to the Federal Government.

If BLM does not collect this information, it would lack the necessary information to ensure lessees and operating rights owners are fulfilling their obligations with respect to determining whether any producing wells nearby may be draining oil and gas resources covered by their leases. BLM collects the information in the regulations that address drainage and do not require a form.

Type of analysis | Number of analyses | Hours
Preliminary | 1,000 | 2,000
Detailed | 100 | 2,400
Additional | 10 | 200
Total | 1,110 | 4,600

Based upon its experience managing activities related to drainage of oil and gas resources, BLM estimates the above public reporting information collection burden. The estimated number of responses per year is 1,110. The estimated total annual burden is 4,600 hours.

BLM will summarize all responses to this notice and include them in the request for OMB approval. All comments will become a matter of public record.

Dated: July 23, 2001.
Michael H. Schwartz,
BLM Information Collection Clearance Officer.

[FR Doc. 01-21052 Filed 8-20-01; 8:45 am]

BILLING CODE 4310-84-M